DEPARTMENT OF HOMELAND SECURITY

[Docket No. CISA-2019-0016]

Cybersecurity and Infrastructure Security Agency; Notice of President's National Security Telecommunications Advisory Committee Meeting

AGENCY: Cybersecurity and Infrastructure Security Agency (CISA), Department of Homeland Security (DHS).

ACTION: Notice of Federal Advisory Committee Act (FACA) meeting; request for comments.

SUMMARY: CISA is publishing this notice to announce the following President's National Security Telecommunications Advisory Committee (NSTAC) meeting. This meeting is open to the public.

DATES:

Meeting Registration: Registration to attend the meeting is required and must be received no later than 5:00 p.m. Eastern Time (ET) on February 18, 2020.

Speaker Registration: Registration to speak during the meeting's public comment period must be received no later than 5:00 p.m. ET on February 18, 2020.

Meeting Date: The NSTAC will meet on February 20, 2020, from 2:00 p.m. to 3:00 p.m. ET. The meeting may close early if the committee has completed its business.

ADDRESSES: The meeting will be held via conference call. For access to the conference call bridge, information on services for individuals with disabilities, or to request special assistance to participate, please email NSTAC@hq.dhs.gov by 5:00 p.m. ET on February 18, 2020.

Comments: Members of the public are invited to provide comment on the issues that will be considered by the committee as listed in the SUPPLEMENTARY INFORMATION section below. Associated materials that participants may discuss during the meeting will be available at www.dhs.gov/cisa/national-security-telecommunications-advisory-committee for review as of February 5, 2020. Comments may be submitted by 5:00 p.m. ET on February 18, 2020, and must be identified by Docket Number CISA-2019-0016. Comments may be submitted by one of the following methods:

• Federal eRulemaking Portal: http://www.regulations.gov. Please follow the instructions for submitting written comments.

• Email: NSTAC@hq.dhs.gov. Include the Docket Number CISA-2019-0016 in the subject line of the email.

Instructions: All submissions received must include the words “Department of Homeland Security” and the Docket Number for this action. Comments received will be posted without alteration at www.regulations.gov, including any personal information provided.

Docket: For access to the docket and comments received by the NSTAC, please go to www.regulations.gov and enter docket number CISA-2019-0016.

A public comment period is scheduled to be held during the meeting from 2:45 p.m.-2:55 p.m. ET. Speakers who wish to participate in the public comment period must register by emailing NSTAC@hq.dhs.gov. Speakers are requested to limit their comments to three minutes and will speak in order of registration. Please note that the public comment period may end before the time indicated, following the last request for comments.

FOR FURTHER INFORMATION CONTACT: Helen Jackson, 703-705-6276, helen.jackson@cisa.dhs.gov.

SUPPLEMENTARY INFORMATION: The NSTAC was established by Executive Order (E.O.) 12382, 47 FR 40531 (September 13, 1982), as amended and continued under the authority of E.O. 13889, dated September 27, 2019. Notice of this meeting is given under the FACA, 5 U.S.C. Appendix (Pub. L. 92-463). The NSTAC advises the President on matters related to national security and emergency preparedness (NS/EP) telecommunications and cybersecurity policy.

Agenda: The NSTAC will hold a conference call on February 20, 2020, to discuss issues and challenges related to NS/EP communications. The meeting will include: discussions with senior-level Government stakeholders, and a status update on the NSTAC Software-Defined Networking subcommittee, the current study which tasked the committee with examining the impact of SDN on the Government's NS/EP functions, to include identifying the challenges and opportunities provided by SDN and assessing the use of SDN and other virtualization technologies in support of national security. There will also be discussion on potential NSTAC study topics.

Dated: January 6, 2020.
Helen Jackson,
Designated Federal Officer, NSTAC.

[FR Doc. 2020-00530 Filed 1-14-20; 8:45 am]

BILLING CODE 9110-9P-P